DEPARTMENT OF INTERIOR

Bureau of Reclamation

Cancellation of the South Valley Facilities Expansion Project—Clark County, NV

AGENCY: Bureau of Reclamation, Interior.

ACTION: Cancellation of Notice of Intent to prepare the Environmental Impact Statement.

SUMMARY: The Bureau of Reclamation, together with the Bureau of Land Management (BLM) and the National Park Service (NPS) as cooperating agencies are cancelling the Notice of Intent (NOI) to prepare an Environmental Impact Statement (EIS) for the South Valley Facilities Expansion (SVFE) Project, published in the Federal Register on April 18, 2008 (73 FR 21155).

FOR FURTHER INFORMATION CONTACT: Ms. Laureen Perry at 702-293-8392, lperry@usbr.gov, fax number 702-293-8418, or at Bureau of Reclamation, Lower Colorado Region, P.O. Box 61470, Boulder City, NV 89006-1470.

SUPPLEMENTARY INFORMATION: The NOI was published in the Federal Register on April 18, 2008 by Reclamation, together with the BLM and the NPS as cooperating agencies, for the SVFE Project because the Southern Nevada Water Authority (SNWA) had requested rights-of-way from Reclamation, the BLM, and the NPS—Lake Mead National Recreation Area. The SVFE Project was to be completed in several future phases with an anticipated completion by the year 2027.

In consultation with its member agencies, SNWA continually evaluates infrastructure needs within its service area. At this time, SNWA has determined that service requirements for the southern Las Vegas Valley can continue to be met through existing infrastructure, and the Project is not needed. On September 22, 2009, SNWA provided written notice to Reclamation requesting the withdrawal of the submitted subject right-of-way application. Consequently, the preparation of an EIS to evaluate the proposed SVFE Project is no longer required, thus cancelling the EIS process.

Dated: December 15, 2009.
Lorri Gray-Lee,
Regional Director, Lower Colorado Region.

[FR Doc. E9-31430 Filed 1-5-10; 8:45 am]

BILLING CODE 4310-MN-P